NUCLEAR REGULATORY COMMISSION

[Docket Nos. 50-277 and 50-278]

Exelon Generation Company, LLC, and PSEG Nuclear, LLC; Environmental Assessment and Finding of No Significant Impact; Correction NRC-2009-0033

AGENCY: Nuclear Regulatory Commission.

ACTION: Environmental Assessment and Finding of No Significant Impact; Correction.

SUMMARY: This document corrects a notice appearing in the Federal Register on January 29, 2009 (74 FR 5191), that notified the public of the Environmental Assessment and Finding of No Significant Impact for issuance of an Exemption from Title 10 of the Code of Federal Regulations (10 CFR) Part 50, Appendix R, Section III.G, “Fire Protection of Safe Shutdown Capability,” for the use of operator manual actions in lieu of the requirements specified in Section III.G.2 as requested by Exelon Generation Company, LLC for operation of Peach Bottom Atomic Power Station, Units 2 and 3 located in York and Lancaster Counties, Pennsylvania. This action is necessary to correct the Licensee's name as stated in the subject heading of the original notice.

FOR FURTHER INFORMATION CONTACT: John D. Hughey, Office of Nuclear Reactor Regulation, U.S. Nuclear Regulatory Commission, Washington, DC 20555-0001; telephone (301) 415-3204, e-mail: John.Hughey@nrc.gov.

SUPPLEMENTARY INFORMATION: On page 5191, in the first column, 11th line, the subject heading is corrected to read from “Entergy Nuclear Operations, Inc.;” to “Exelon Generation Company, LLC, and PSEG Nuclear, LLC;.”

Dated in Rockville, Maryland, this 29th day of January 2009.
For the Nuclear Regulatory Commission.
John D. Hughey,
Project Manager, Plant Licensing Branch I-2, Division of Operating Reactor Licensing, Office of Nuclear Reactor Regulation.

[FR Doc. E9-2546 Filed 2-5-09; 8:45 am]

BILLING CODE 7590-01-P